DEPARTMENT OF THE INTERIOR

National Park Service, Interior.

Environmental Assessment for Proposal To Address Safety Concerns Along the Mount Vernon Trail in and Around Bridge #12

AGENCY: National Park Service, Interior.

ACTION: Availability of the environmental assessment (EA) for the proposed safety improvements to Bridge #12 located approximately ¼ mile north of the southbound Fort Hunt exit off of the George Washington Memorial Parkway (GWMP) along the Mount Vernon Trail (MVT).

SUMMARY: Pursuant to Council on Environmental Quality regulations and National Park Service (NPS) policy, the NPS announces the availability of an EA for the proposed safety improvements on and around MVT Bridge #12 within GWMP. The EA examines several alternatives aimed to increase safety for trail users while maintaining the integrity of the natural and cultural resources at Bridge #12. The area on and around Bridge #12 has been identified as a safety concern, primarily due to the bridge and trail designs in relationship to the existing terrain and the increased speeds that bicyclists are now able to obtain. As the trail approaches the bridge from both the north and the south, it combines a series of sharp curves with a steep downhill grade which has resulted in serious accidents to bicyclists, especially when the bridge deck is wet or damp. The NPS is soliciting comments on this EA. These comments will be considered in evaluating it and making decisions pursuant to the National Environmental Policy Act.

DATES: The EA will remain available for public comment until August 1, 2001. Written comments should be received no later than this date.

ADDRESSES: Comments on this EA should be submitted in writing to: Ms. Audrey F. Calhoun, Superintendent, George Washington Memorial Parkway, Turkey Run Park, McLean, Virginia, 22101. The EA will be available for public inspection Monday through Friday, 8 a.m. through 4 p.m., at GWMP Headquarters, Turkey Run Park, McLean, Virginia; on the NPS Website, www.nps.gov/gwmp; and at several libraries in Alexandria, Fairfax and Arlington, Virginia.

SUPPLEMENTARY INFORMATION: The NPS proposes to increase safety for trail users while maintaining the integrity of the natural and cultural resources at Bridge #12, located approximately ¼ mile north of the southbound Fort Hunt exit off of the GWMP on the MVT. Approximately nine years ago, both ends of the bridge were widened to allow a greater turning radius for bicyclists to make the turn onto the bridge, a non-slip coating was applied to the bridge deck surface, and warning signs were posted at each end of the bridge. Although these modifications have lessened the existing safety hazards, accidents continue to occur on and around this bridge structure and it requires reconsideration. A 1990 NPS trail study entitled Paved Recreational Trails of the National Capital Region: Recommendations for Improvements and Coordination to Form a Metropolitan Multi-Use Trail System identified this area as a priority for safety improvements. The bridge traverses a ravine with a wetland area and small creek running through it. The existing bridge is approximately 165 feet long and is constructed from a combination of pressure treated lumber and creosote piles.

The following primary needs have been identified with this project to address the existing safety issues. There is a need:

1. For design changes to the bridge itself to make it a more sustainable structure and provide for safety on the bridge.

2. To change the steep, sharp curved approaches to the bridge.

3. To protect natural and cultural resources in and around the bridge area.

Incidents that have occurred at this location have been informally documented by observations by park staff and through conversations with visitors who have reported incidents. Physical evidence such as skid marks and bicycle paint and scrape marks on the wood of the bridge have also been observed. Finally, park staff have assisted injured bicyclists on several occasions on and around the bridge.

All interested individuals, agencies, and organizations are urged to provide comments on this EA. The NPS, in making a final decision regarding this matter, will consider all comments received by the closing date.

FOR FURTHER INFORMATION CONTACT: Mr. Dan Sealy (703) 289-2530 or via email at GWMP_IRRM_ SECRETARY@NPS.GOV.

Audrey F. Calhoun,
Superintendent, George Washington Memorial Parkway.

[FR Doc. 01-16499 Filed 6-29-01; 8:45 am]

BILLING CODE 4310-70-P